FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 27, 2014.

A. Federal Reserve Bank of Minneapolis (Jacqueline K. Brunmeier, Assistant Vice President) 90 Hennepin Avenue, Minneapolis, Minnesota 55480-0291:

1. The Gordon H. Hoffner 2011 Irrevocable Family Trust, and Wayne G. Hoffner, both of Hazen, North Dakota, individually, and as trustee of the The Gordon H. Hoffner 2011 Irrevocable Family Trust, and Lynette Janelle Bjornson, Mandan, North Dakota, to become a member of the Hoffner Family Shareholder Group, and retroactively retain voting shares of Union Holding Company, Halliday, North Dakota, and thereby indirectly retain voting shares of The Union Bank, Beulah, North Dakota.

Board of Governors of the Federal Reserve System, February 7, 2014.
Margaret McCloskey Shanks,
Deputy Secretary of the Board.

[FR Doc. 2014-03042 Filed 2-11-14; 8:45 am]

BILLING CODE 6210-01-P